ENVIRONMENTAL PROTECTION AGENCY

40 CFR Parts 60 and 63

[FRL-7658-4]

Reopening of the Comment Period for the Proposed National Emission Standards for Hazardous Air Pollutants; and, in the Alternative, Proposed Standards of Performance for New and Existing Stationary Sources: Electric Utility Steam Generating Units

AGENCY: Environmental Protection Agency (EPA).

ACTION: Proposed rule, announcement of reopening of public comment period.

SUMMARY: The EPA is announcing that the period for providing public comments on the January 30, 2004 Proposed National Emission Standards for Hazardous Air Pollutants; and, in the Alternative, Proposed Standards of Performance for New and Existing Stationary Sources: Electric Utility Steam Generating Units, and on the March 16, 2004 Supplemental Proposed Utility Mercury Reductions Rule that closed April 30, 2004 is being reopened for 60 days, to end June 29, 2004.

DATES: Comments. The public comment period for these actions is being reopened effective April 30, 2004 for 60 days to June 29, 2004 in order to provide the public additional time to submit comments and supporting information.

ADDRESSES: Comments. Written comments on the proposed rule may be submitted to EPA electronically, by mail, by facsimile, or through hand delivery/courier. Please refer to the proposal for the addresses and detailed instructions.

Docket. Documents relevant to this action are available for public inspection at the EPA Docket Center, located at 1301 Constitution Avenue, NW., Room B102, Washington, DC between 8:30 a.m. and 4:30 p.m., Monday through Friday, excluding legal holidays. A reasonable fee may be charged for copying. Documents are also available through EPA's electronic Docket system at http://www.epa.gov/edocket.

Worldwide Web. The EPA Web site for these rulemakings is at http://www.epa.gov/mercury.

FOR FURTHER INFORMATION CONTACT: Questions concerning the proposed rule should be addressed to William Maxwell, U.S. EPA, Office of Air Quality Planning and Standards, Emission Standards Division, Combustion Group (C439-01), Research Triangle Park, NC 27711, telephone number (919) 541-5430, e-mail at maxwell.bill@epa.gov. For information on section 111 mercury model trading rule, contact Mary Jo Krolewski, U.S. EPA, 1200 Pennsylvania Avenue (MC 6204J), Washington, DC 20460, telephone number (202) 343-9847, fax number (202) 343-2358, electronic mail (e-mail) address, krolewski.maryjo@epa.gov. For information on the part 75 mercury monitoring requirements, contact Ruben Deza, U.S. EPA, 1200 Pennsylvania Avenue (MC 6204J), Washington, DC 20460, telephone number (202) 343-3956, fax number (202) 343-2358, electronic mail (e-mail) address, deza.ruben@epa.gov.

SUPPLEMENTARY INFORMATION:

Comment Period

Due to the many requests we have received from both the public and members of Congress to extend the public comment period for the January 30, 2004 (69 FR 4652) Proposed Utility Mercury Reductions Rule to reduce air emissions of mercury and nickel, and on the March 16, 2004 Supplemental Proposed Utility Mercury Reductions Rule 69 FR 12398, EPA is reopening the public comment period effective April 30, 2004 for an additional 60 days. Therefore, the public comment period will end on June 29, 2004, rather than April 30, 2004.

How Can I Get Copies of This Document and Other Related Information?

The EPA has established the official public docket for the Supplemental Proposal and the Proposed Utility Mercury Reductions Rule under Docket ID No. OAR-2002-0056. The EPA has also developed Web sites for these proposed rulemakings at the addresses given above. Please refer to the Supplemental Proposal for details on accessing information related to that action.

Dated: April 30, 2004.
Robert Brenner,
Acting Assistant Administrator for Air and Radiation.

[FR Doc. 04-10335 Filed 5-4-04; 8:45 am]

BILLING CODE 6560-50-P